DEPARTMENT OF COMMERCE

International Trade Administration

[C-489-806]

Certain Pasta From Turkey: Final Results of the Expedited Third Sunset Review of the Countervailing Duty Order

AGENCY: Import Administration, International Trade Administration, Department of Commerce.

DATES: Effective Date: January 4, 2013.

SUMMARY: On September 4, 2012, the Department of Commerce (“Department”) initiated the third Sunset Review of the countervailing duty order on certain pasta from Turkey. The Department finds that revocation of this countervailing duty order would be likely to lead to continuation or recurrence of net countervailable subsidies at the rates in the “Final Results of Reviews” section of this notice.

FOR FURTHER INFORMATION CONTACT: Mahnaz Khan, AD/CVD Operations, Office 1, Import Administration, International Trade Administration, U.S. Department of Commerce, 14th Street and Constitution Avenue NW., Washington, DC 20230; telephone (202) 482-0914.

SUPPLEMENTARY INFORMATION:

Background

The countervailing duty order on certain pasta from Turkey was published on July 24, 1996. See Notice of Countervailing Duty Order: Certain Pasta (“Pasta”) From Turkey, 61 FR 38546 (July 24, 1996).

On September 4, 2012, the Department initiated the third sunset review of this order, pursuant to section 751(c) of the Tariff Act of 1930, as amended (“the Act”). See Initiation of Five-Year (“Sunset”) Review, 77 FR 53867 (September 4, 2012) (“notice of initiation”). The Department received a notice of intent to participate from the following domestic parties: A. Zerega's Sons, Inc., American Italian Pasta Company, Dakota Growers Pasta Company, Inc., New World Pasta Company, and Philadelphia Macaroni Company (collectively, “domestic interested parties”), within the deadline specified in 19 CFR 351.218(d)(1)(i).

The Department received an adequate substantive response to the notice of initiation from the domestic interested parties within the 30-day deadline specified in 19 CFR 351.218(d)(3)(i). The Department also received a substantive response from the Government of Turkey, but received no responses from respondent interested parties. As a result, pursuant to 19 CFR 351.218(e)(1)(ii)(C)(2), the Department is conducting an expedited (120-day) sunset review of the countervailing duty order on certain pasta from Turkey.

Scope of the Order

The merchandise subject to the order is pasta. The product is currently classified under the Harmonized Tariff Schedule of the United States (“HTS”) item numbers 1902.19.20. Although the HTS numbers are provided for convenience and customs purposes, the written product description, available in Notice of Countervailing Duty Order: Certain Pasta from Turkey, 61 FR 38546 (July 24, 1996), remains dispositive.

Analysis of Comments Received

All issues raised in these reviews are addressed in the Issues and Decision Memorandum (“Decision Memorandum”) from Gary Taverman, Senior Advisor for Antidumping and Countervailing Duty Operations, to Lynn Fischer Fox, Deputy Assistant Secretary for Policy and Negotiations, dated December 28, 2012, which is hereby adopted by this notice. The issues discussed in the Decision Memorandum include the likelihood of continuation or recurrence of countervailable subsidies and the net countervailable subsidies likely to prevail if the orders were revoked. Parties can find a complete discussion of all issues raised in this review and the corresponding recommendations in this public memorandum, which is on file electronically via Import Administration's Antidumping and Countervailing Duty Centralized Electronic Service System (“IA ACCESS”). IA ACCESS is available to registered users at http://iaaccess.trade.gov and in the Central Records Unit in room 7046 of the main Commerce building. In addition, a complete version of the Decision Memorandum can be accessed directly on the Internet at http://ia.ita.doc.gov/ia/. The signed Decision Memorandum and electronic versions of the Decision Memorandum are identical in content.

Final Results of Review

Pursuant to sections 752(c)(1) and (3) of the Act, we determine that revocation of the countervailing duty order on certain pasta from Turkey would be likely to lead to continuation or recurrence of countervailing subsidies at the following net countervailable subsidy rates:

Manufacturers/exporters/ producers | Net countervailable subsidy (percent)
Filiz Gida Sanayi ve Ticaret | 1.63
Maktas Makarnacilik ve Ticaret/Gidasa Gida San.Tic.A.S. | 13.09
Oba Makarnacilik Sanayi ve Ticaret | 13.08
All Others | 8.85

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(c), and 777(i)(1) of the Act.

Dated: December 28, 2012.
Lynn Fischer Fox,
Deputy Assistant Secretary for Policy and Negotiations.

[FR Doc. 2012-31726 Filed 1-3-13; 8:45 am]

BILLING CODE 3510-DS-P